DEPARTMENT OF THE INTERIOR

National Park Service

[NPS-WASO-NAGPRA-NPS0038471; PPWOCRADN0-PCU00RP14.R50000]

Notice of Inventory Completion Amendment: U.S. Department of the Interior, National Park Service, Yellowstone National Park, Mammoth Hot Springs, WY

AGENCY: National Park Service, Interior.

ACTION: Notice; amendment.

SUMMARY: In accordance with the Native American Graves Protection and Repatriation Act (NAGPRA), the U.S. Department of the Interior, National Park Service, Yellowstone National Park (YELL) has amended a notice of inventory completion published in the Federal Register on November 22, 2006. This notice amends the Indian Tribes or Native Hawaiian organizations with cultural affiliation.

DATES: Repatriation of the human remains may occur on or after September 12, 2024.

ADDRESSES: Cameron Sholly, Superintendent, Yellowstone National Park, P.O. Box 168, Yellowstone National Park, WY 82190, telephone (307) 344-2229, email cam_sholly@nps.gov.

SUPPLEMENTARY INFORMATION: This notice is published as part of the National Park Service's administrative responsibilities under NAGPRA. The determinations in this notice are the sole responsibility of the Superintendent, YELL, and additional information on the determinations in this notice, including the results of consultation, can be found in the inventory or related records.

Amendment

This notice amends the determination of cultural affiliation in a Notice of Inventory Completion published in the Federal Register on November 22, 2006 (71 FR 67635-67636). Repatriation of the human remains in the original notice of inventory completion has not occurred.

Determinations

YELL has determined that:

• There is a connection between the human remains described in the original notice and the Blackfeet Tribe of the Blackfeet Indian Reservation of Montana; Confederated Salish and Kootenai Tribes of the Flathead Reservation; Fort Belknap Indian Community of the Fort Belknap Reservation of Montana; and the Shoshone-Bannock Tribes of the Fort Hall Reservation.

Requests for Repatriation

Written requests for repatriation of the human remains in the original notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in the original notice to a requestor may occur on or after September 12, 2024. If competing requests for repatriation are received, YELL must determine the most appropriate requestor prior to repatriation. Requests for joint repatriation of the human remains are considered a single request and not competing requests. YELL is responsible for sending a copy of this notice to the Indian Tribes and Native Hawaiian organizations identified in this notice.

Authority: Native American Graves Protection and Repatriation Act, 25 U.S.C. 3003, and the implementing regulations, 43 CFR 10.10.

Dated: August 1, 2024.
Melanie O'Brien,
Manager, National NAGPRA Program.

[FR Doc. 2024-17973 Filed 8-12-24; 8:45 am]

BILLING CODE 4312-52-P